DEPARTMENT OF THE INTERIOR

National Park Service

[NPS-WASO-NRNHL-25172; PPWOCRADI0, PCU00RP14.R50000]

National Register of Historic Places; Notification of Pending Nominations and Related Actions

AGENCY: National Park Service, Interior.

ACTION: Notice.

SUMMARY: The National Park Service is soliciting comments on the significance of properties nominated before March 3, 2018, for listing or related actions in the National Register of Historic Places.

DATES: Comments should be submitted by April 5, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before March 3, 2018. Pursuant to Section 60.13 of 36 CFR part 60, written comments are being accepted concerning the significance of the nominated properties under the National Register criteria for evaluation. Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Rio Blanco County

Meeker Historic District, Roughly bounded by Main, 4th & 8th Sts. & Park Ave., Meeker, SG100002306

KANSAS

Ellis County

Pawnee Tipi Ring Site and Golden Spring Beach, Address Restricted, Hays vicinity, SG100002307

MARYLAND

Frederick County

Rosenstock Village Site, Address Restricted, Frederick vicinity, SG100002308

MONTANA

Park County

Livingston Memorial Hospital, 504 S. 13th St., Livingston, SG100002309

VERMONT

Chittenden County

District No.5 Schoolhouse, (Educational Resources of Vermont MPS), 32 Pleasant Valley Rd., Underhill, MP100002311

WISCONSIN

Brown County

Miramar Drive Residential Historic District, Generally bounded by N & S sides of Miramar Dr. between Riverside Dr. & Nelson Ct., Allouez, SG100002312

Additional documentation has been received for the following resource:

NORTH CAROLINA

Chatham County

Pittsboro Historic District, (Pittsboro MRA), Roughly bounded by Chatham St., Small St., Rectory St., and Launis St., Pittsboro, AD00000442

Authority: Section 60.13 of 36 CFR part 60.

Dated: March 5, 2018.
Christopher Hetzel,
Acting Chief, National Register of Historic Places/National Historic Landmarks Program.

[FR Doc. 2018-05646 Filed 3-20-18; 8:45 am]

BILLING CODE 4312-52-P